DEPARTMENT OF JUSTICE

Antitrust Division

Notice Pursuant to the National Cooperative Research and Production Act of 1993—the Asymmetrical Digital Subscriber Line Forum

Notice is hereby given that, on April 17, 2001, pursuant to Section 6(a) of the National Cooperative Research and Production Act of 1993, 15 U.S.C. 4301 et seq. (“the Act”), The Asymmetrical Digital Subscriber Line Forum (“ADSL”) has filed written notifications simultaneously with the Attorney General and the Federal Trade Commission disclosing changes in its membership status. The notifications were filed for the purpose of extending the Act's provisions limiting the recovery of antitrust plaintiffs to actual damages under specified circumstances. Specifically, Hitachi, Kanagawa, JAPAN, BRECIS Communications, San Jose, CA; Charles Industries, Rolling Meadows, IL; State Farm Insurance, Bloomington, IL; Energis Communications, Reading, Berkshire, England, UNITED KINGDOM; International Engineering Consortium, Chicago, IL; Symmetricom, San Jose, CA; Knowledge Junction, Coquitlam, British Columbia, CANADA; Telekom Austria, Vienna, AUSTRIA; AccessLan Communications, San Jose, CA; Verilink, Huntsville, AL; VDSL Systems, Oy, Espoo, FINLAND; Avaya, Inc., Whippany, NJ; Bulldog Communications, London, England, UNITED KINGDOM; e-Site, Tustin, CA; Actiontec Electronics, Orange, CA; DETEL, Taipei, TAIWAN; BroadMAX Technologies, Delray Beach, FL; TUV Rheinland of N.A., Pleasanton, CA; Incognito Software, Vancouver, British Columbia, CANADA; Comtest Networks, Ottawa, Ontario, CANADA; UAT, Taipei, TAIWAN; riodata AG, Zurich, SWITZERLAND; and TEG Worldwide Media, Irving, TX have been added as parties to this venture.

The following parties have changed their names: Mitel Corporation, Kanata, Ontario, CANADA is now Mitel Networks; GTS Network Systems, Hoeilaart, BELGIUM is now EBONE; Eicon Technology, Montreal, Quebec, CANADA is now Eicon Networks; Fluke Corporation, Everett, WA is now Fluke Networks, Inc.; First Telecom, Frankfurt, GERMANY is now Atlantic Telecom; Clare Remtech, San Diego, CA is now Sumida; Cable & Wireless HKT, Hong Kong, HONG KONG-CHINA is now Pacific Century Cyberworks; and Ericsson Aheadcom, Vienna, AUSTRIA is now Ahead Communications.

In addition, Silicon Spice, Mountain View, CA has been acquired by Broadcom, Irvine, CA; and Chiplogic, Santa Clara, CA has merged with Analog Devices, Inc., Wilmington, MA.

Also, Belgacom, Brussels, BELGIUM; Bintec Corporation, Nurnberg, GERMANY; Pliant Systems, Research Triangle Park, NC; Digi International, Minnetonka, MN; Edgcumbe Instruments, Glasgow, Scotland, UNITED KINGDOM; ITRI, Taejon, TAIWAN; Fantastic Corporation, Zug, SWITZERLAND; Iceland Telecom, Reykjavik, ICELAND; Interlink, Seoul, REPUBLIC OF KOREA; INTERSPEED, North Andover, MA; Inverness Systems, Marlborough, MA; IPM Datacom, Frattamaggiore Napol, ITALY; Italtel, Settimo Milanese, ITALY; Jato Communications, Denver, CO; Katron Technologies, Taipei, TAIWAN; Korea Telecom, Taejon, REPUBLIC OF KOREA; LASAT Networks, Nibe, DENMARK; Northpoint Communications, San Francisco, CA; Promatory Communications, Fremont, CA; Quokka Sports, San Francisco, CA; Raychem, Menlo Park, CA; Secre Composants S.A., Pontault-Combault, FRANCE; tdSoft Communications, Hezeliys, ISRAEL; Telamon Corporation, Martinsville, IN; Telefonica de Espana, Madrid, SPAIN; Universal Microelectronics, Torrance, CA; University of Pretoria, Pretoria, SOUTH AFRICA; Acterna, Salem, VA; Xecom, Milpitas, CA; Xstreamis plc, Oxford, England, UNITED KINGDOM; DETECON, Bonn, GERMANY; Fidelity Investments, Boston, MA; KPMG, Uxbridge, Middlesex, England, UNITED KINGDOM; Swisscom Ltd, Geneva, SWITZERLAND; FirstWorld Communications, San Diego, CA; Audiocodes, Yehud, ISRAEL; Infinitec Communications, Tulsa, OK; Netcom Systems, Chatsworth, CA; Turk Telekom, Ankara, TURKEY; Larscom, Research Triangle Park, NC; HUB Fabricating Company, Reading, PA; Fastcomm Communications, Dulles, VA; Tecate Industries, Poway, CA; Intera Systems, Los Gatos, CA; Elastic Networks, Alpharetta, GA; Ezenia!, Marlborough, MA; cFos, Lueders/Winkler, Bonn, GERMANY; Telewest, Bradford, West Yorkshire, England, UNITED KINGDOM; Tachion Networks, West Long Branch, NJ; Sonoma Systems, Marlborough, MA; Metrodata, Egham, Surrey, England, UNITED KINGDOM; Nbase-Xyplex, Littleton, MA; KYE Systems, Taipei, TAIWAN; E & E Magnetic products, Hong Kong, HONG KONG-CHINA; New Edge Networks, Vancouver, WA; Angeles Design Systems, Inc., Los Angeles, CA; EmpowerTel Networks, Milpitas, CA; Silicon Labs, Austin, TX; MEDIACENTERS.COM, Chantilly, VA; On2.com, New York, NY; DiscoveryCom, Inc., Huntsville, AL; DSL.com, Inc., Westfield, IN; Telefonica CTC Chile, Santiago, CHILE; Dorado Software, El Dorado Hills, CA; Northcoit.com, West Palm Beach, FL; Dresdner Kleinwort Benson, New York, NY; Recsol I&C, Seoul, REPUBLIC OF KOREA; Telint Global, Potsdam, GERMANY; webMethods, Fairfax, VA; Belenos, Boston, MA; imajet.com, Singapore, SINGAPORE; DXO Telecom, Seoul, REPUBLIC OF KOREA; Access Conferences International, London, England, UNITED KINGDOM; Kasenna, Mountain View, CA; Xpeed Networks, San Jose, CA; @Link Networks, Louisville, CO; and Valence Semiconductor, Tustin, CA have been dropped as parties to this venture.

No other changes have been made in either the membership or planned activity of the group research project. Membership in this group research project remains open, and ADSL intends to file additional written notifications disclosing all changes in membership.

On May 15, 1995, ADSL filed its original notification pursuant to Section 6(a) of the Act. The Department of Justice published a notice in the Federal Register pursuant to Section 6(b) of the Act on July 25, 1995 (60 FR 38058).

The last notification was filed with the Department on January 25, 2001. A notice for this filing has not yet been published in the Federal Register.

Constance K. Robinson,
Director of Operations, Antitrust Division.

[FR Doc. 01-13769 Filed 5-31-01; 8:45 am]

BILLING CODE 4410-11-M